DEPARTMENT OF COMMERCE

International Trade Administration

[C-580-818]

Corrosion-Resistant Carbon Steel Flat Products From the Republic of Korea: Preliminary Results of Countervailing Duty Administrative Review; 2011

AGENCY: Import Administration, International Trade Administration, Department of Commerce.

SUMMARY: The Department of Commerce (the Department) is conducting an administrative review of the countervailing duty (CVD) order on corrosion-resistant carbon steel flat products (CORE) from the Republic of Korea (Korea) for the period of review (POR) January 1, 2011, through December 31, 2011. For information on the net subsidy for Dongbu Steel Co., Ltd. (Dongbu), Hyundai HYSCO Ltd. (HYSCO), and Pohang Iron & Steel Co. Ltd. (POSCO), the companies under review, see the “Preliminary Results of Review” section of this notice. Interested parties are invited to comment on these preliminary results.¹

¹ See the “Disclosure and Public Comment” section of this notice.

DATES: Effective Date: September 10, 2013.

FOR FURTHER INFORMATION CONTACT: Christopher Hargett, AD/CVD Operations, Import Administration, International Trade Administration, U.S. Department of Commerce, 14th Street and Constitution Avenue NW., Washington, DC 20230; telephone: (202) 482-4161.

SUPPLEMENTARY INFORMATION:

Scope of the Order

The merchandise covered by this Order ² is certain corrosion-resistant carbon steel flat products from Korea. These products include flat-rolled carbon steel products, of rectangular shape, either clad, plated, or coated with corrosion-resistant metals such as zinc, aluminum, or zinc-, aluminum-, nickel-, or iron-based alloys, whether or not corrugated or painted, varnished or coated with plastics or other nonmetallic substances in addition to the metallic coating.³

² See Countervailing Duty Orders and Amendments to Final Affirmative Countervailing Duty Determinations: Certain Steel Products From Korea, 58 FR 43752 (August 17, 1993) (Order).

³ See the “Decision Memorandum for Preliminary Results of 2011 Countervailing Duty Administrative Review: Corrosion-Resistant Carbon Steel Flat Products from the Republic of Korea” (Preliminary Decision Memorandum), dated concurrent with and adopted by this notice, for a complete description of the Scope of the Order.

Methodology

The Department is conducting this CVD review in accordance with section 751(a)(1) of the Tariff Act of 1930, as amended (the Act). For a full description of the methodology underlying our preliminary conclusions, see the Preliminary Decision Memorandum. The Preliminary Decision Memorandum is a public document and is on file electronically via Import Administration's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly on the Internet at http://www.trade.gov/ia/. The signed and electronic versions of the Preliminary Decision Memorandum are identical in content.

In accordance with 19 CFR 351.221(b)(4)(i), we calculated an individual subsidy rate for each producer/exporter subject to this administrative review, for the period January 1, 2011, through December 31, 2011.⁴

⁴ See 19 CFR 351.106(c)(1).

Preliminary Results of Review

We preliminarily determine the countervailable subsidy rates to be:

Company | Subsidy rate
Dongbu Steel Co., Ltd | 0.10 percent or de minimis.⁵
Hyundai HYSCO | 0.45 percent or de minimis.
Pohang Iron & Steel Co., Ltd./Pohang Coated Steel Co., Ltd | 0.34 percent or de minimis.

⁵ Id.

Assessment and Cash Deposit Requirements

The Department intends to issue assessment instructions to U.S. Customs and Border Protection (CBP) 15 days after the date of publication of the final results of this review. If the final results remain the same as these preliminary results, the Department will instruct CBP to liquidate without regard to CVDs all shipments of subject merchandise produced by HYSCO, POSCO, and Dongbu, entered, or withdrawn from warehouse, for consumption from January 1, 2011, through December 31, 2011.

The Department notified CBP to discontinue the collection of cash deposits on entries of the subject merchandise, entered or withdrawn from warehouse, on or after February 14, 2012, the effective date of the revocation of this Order.⁶

⁶ See Corrosion-Resistant Carbon Steel Flat Products from Germany and the Republic of Korea: Revocation of Antidumping and Countervailing Duty Orders, 78 FR 16832 (March 19, 2013).

Disclosure and Public Comment

The Department intends to disclose to interested parties the calculations performed in connection with these preliminary results within five days after the date of publication of these preliminary results.⁷ Interested parties may submit written comments no later than 30 days after the date of publication of these preliminary results of review. Rebuttals briefs, limited to issues raised in case briefs, may be filed no later than five days after the time limit for filing the case briefs, as specified by 19 CFR 351.309(d).⁸

⁷ See 19 CFR 351.224(b).

⁸ See 19 CFR 351.309(c); 19 CFR 351.309(d)(1).

Interested parties that wish to request a hearing, or participate if one is requested, must submit a written request to the Assistant Secretary for Import Administration, U.S. Department of Commerce, filed electronically using IA ACCESS. An electronically filed document must be received successfully in its entirety by the Department's IA ACCESS by 5:00 p.m. Eastern Standard Time within 30 days of publication of this notice.⁹ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁰

⁹ See 19 CFR 351.310(c).

¹⁰ Id.

Unless the deadline is extended pursuant to section 751(a)(3)(A) of the Act, the Department will issue the final results of this administrative review, including the results of our analysis of the issues raised by the parties in their comments, within 120 days after publication of these preliminary results.

These preliminary results of review are issued and published in accordance with sections 751(a)(1) and 777(i)(1) of the Act and 19 CFR 351.221(b)(4).

Dated: September 3, 2013.
Paul Piquado,
Assistant Secretary for Import Administration.

Appendix

List of Topics Discussed in the Preliminary Decision Memorandum

1. Summary

2. Background

3. Scope of the Order

4. Subsidies Valuation Information

5. Programs Determined To Be Countervailable

A. Promotion of Specialized Enterprises for Parts and Materials

B. Restriction of Special Taxation Act (“RSTA”) Article 26

C. Asset Revaluation (TERCL Article 56(2) of the Tax Reduction and Exemption Control Act (“TERCL”))

D. Exemption of VAT on Imports of Anthracite Coal

E. Other Subsidies Related to Operations at Asan Bay: Provision of Land and Exemption of Port Fees Under Harbor Act

F. Document Acceptance (“D/A”) Financing Provided Under KEXIM's Trade Rediscount Program and D/A Loans issued by the KDB and Other Government-Owned Banks

G. Reduction in Taxes for Operation in Regional and National Industrial Complexes

H. RSTA 22: Corporation Tax Exemption on Dividend Income from Investment in Overseas Resource Development

6. Programs Preliminarily Determined Not To Confer a Benefit During the POR

A. Overseas Resource Development Program: Loan from Korea Resources Corporation (“KORES”)

B. Overseas Resource Development Program: Loan from Korea National Oil Corporation (“KNOC”)

C. Pre-1992 Direct Credit

D. R&D Grants Under the Special Act on Balanced National Development

E. Research and Development Grants Under the Industrial Technology Innovation Promotion Act (“ITIPA”)

7. Programs Preliminarily Determined To Be Not Used ¹¹

¹¹ For a list of the programs preliminarily determined to be not used, see the Preliminary Decision Memorandum.

8. Other Program

A. Tax Credits Received Under the Restriction of Special Taxation Act (“RSTA”)

9. Conclusion

[FR Doc. 2013-22029 Filed 9-9-13; 8:45 am]

BILLING CODE 3510-DS-P